DEPARTMENT OF LABOR

Office of the Secretary

Submission for OMB Review: Comment Request

May 6, 2004.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting the Department of Labor (DOL). To obtain documentation, contact Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Vehicle Mechanical Inspection Report for Transportation Subject to DOT Requirements; Subject to DOL Safety Standards.

OMB Number: 1215-0036.

Frequency: On occasion.

Type of Response: Reporting.

Affected Public: Business or other for-profit and Farms.

Number of Respondents: 1,020.

Number of Annual Responses: 3,060.

Estimated Time Per Response: 5 minutes.

Total Burden Hours: 255.

Total Annualized capital/startup costs: $0.

Total Annual Costs (operating/maintaining systems or purchasing services): $140,760.

Description: Section 401 of the Migrant and Seasonal Agricultural Worker Protection Act (MSPA) requires that farm labor contractors, agricultural employers, or agricultural associations who use any vehicle to transport a migrant or seasonal agricultural worker, ensure that such vehicle conforms to vehicle State safety standards prescribed by MSPA and other applicable Federal and State safety standards. The use of forms WH-514 and WH-514a enable an applicant to verify to the Department or appropriate State agency that the vehicles used to transport such workers meet these safety standards. The WH-514 is used to verify that Department of Transportation safety standards are met for all vehicles other than passenger automobiles or station wagons, and the WH-514a is used to verify that Department of Labor safety standards are met for all vehicles including passenger automobiles or station wagons.

Ira L. Mills,
Departmental Clearance Officer

[FR Doc. 04-10960 Filed 5-13-04; 8:45 am]

BILLING CODE 4510-27-P